DEPARTMENT OF LABOR

Employment and Training Administration

Job Corps: Draft Finding of No Significant Impact Sacramento Job Corps Center, 3100 Meadowview Rd., Sacramento, CA 95832 for Sacramento Regional Transit District Power Line Easement Alignment Alteration

AGENCY: Employment and Training Administration (ETA), Department of Labor.

ACTION: Notice

SUMMARY: Pursuant to the Council on Environmental Quality Regulations (40 CFR part 1500-08) implementing procedural provisions of the National Environmental Policy Act (NEPA), the Department of Labor, ETA, in accordance with 29 CFR 11.11(d), gives notice that the alignment alteration of a proposed easement and transmission line on the Sacramento Job Corps Center, will not have a significant adverse impact on the environment.

DATES: Effective Date: These findings are effective as of July 29, 2016.

FOR FURTHER INFORMATION CONTACT: William A Dakshaw, Department of Labor, 200 Constitution Avenue NW., Room N-4460, Washington, DC 20210 (202) 693-2867 (this is not a toll free number).

SUPPLEMENTARY INFORMATION: The transmission line is being relocated to the Job Corps property as part of the South Sacramento Corridor Light Rail Phase 2 Extension project. The transmission line alignment has been evaluated for environmental issues by the Sacramento Regional Transit District in Initial Study/Proposed Mitigated Negative Declaration South Sacramento Corridor Phase 2 Extension 69 kV Transmission Line and Joint Pole Facilities Relocation Project (Initial Study) October 2013.

Since the Initial Study, the transmission alignment has been altered to run closer to the east boundary on the Sacramento Job Corps property. The changes to the alignment of the Transmission Line are not substantial, and, with the mitigation specified in the re-evaluation materials, the changes will not cause significant environmental impacts that were not previously evaluated.

The Sacramento Regional Transit District has prepared a Modification to the Sacramento Regional Transit District's South Sacramento Corridor Phase 2 Light Rail Project—69 kW Transmission Line Relocation which included a Wetlands Assessment for Proposed SMUD 69-kv Relocation (October 15, 2015) to evaluate and propose mitigation actions regarding environmental impacts.

The previously evaluated environmental impacts are:

Removal of 12 eucalyptus trees: Removal of the trees may disturb nesting Swainson's hawks which are a California State threatened species. The proposed mitigation is that tree removal work will be completed outside of nesting season which runs from February 1 to September 15th in accordance with California Department of Fish and Wildlife guidelines.

Threatened vernal pool fairy shrimp and endangered vernal pool tadpole shrimp may be present in vernal pool habitat. The proposed mitigation is to provide a 200 ft buffer between vernal pools and the transmission poles and service roadway.

The Department of Labor is a Cooperating Agency with the U.S. Federal Transit Authority on this project. The Federal Transit Administration letter of May 17, 2016 from Leslie T Rogers, Regional Administrator Region IX, FTA, to Michael R Wiley, General Manager/CEO, Sacramento Regional Transit District stated that the project was previously the subject of a Record of Decision that was issued by FTA in December, 2008 and no further Environmental Impact Statement or Environmental Assessment are necessary. The Office of Job Corps concurs that neither the preparation of a Supplemental Environmental Impact Statement nor an Environmental Assessment are necessary.

Implementation of the selected alternative will not have significant impacts on the human environment. The determination is sustained by the analysis in the Initial Study, agency consultation, and the capability of mitigations to reduce or avoid impacts. Any adverse environmental impacts that could occur are no more than minor in intensity, duration and context and less-than-significant. There are no previous, planned, or implemented actions, which in combination with the selected alternative would have significant effects on the human environment. Requirements of NEPA have been satisfied and preparation of an Environmental Impact Statement is not required. A public comment period was initiated with a notice in the Sacramento Bee on July 31, 2016. The comment period is for 30 days, ending on August 30, 2016.

Signed at Washington, DC, this 29th day of July, 2016.
Portia Wu,
Assistant Secretary for Employment and Training, Labor.

[FR Doc. 2016-19111 Filed 8-15-16; 8:45 am]

BILLING CODE 4510-FT-P